DEPARTMENT OF ENERGY

Federal Energy Regulatory Commission

[Project No. 8005-007]

Columbia Mills Hydroelectric, LP, Columbia Mills Hydroelectric, LLC; Notice of Transfer of Exemption

By letter filed December 9, 2022, Columbia Mills Hydro, LLC, pursuant to 18 CFR 4.94(g), informed the Commission that it is the new owner of the exemption from licensing for the Moomaws Dam Hydroelectric Project No. 8005, originally issued June 21, 1984. The project is located on the Maury River in the City of Buena Vista, Virginia. The transfer of an exemption does not require Commission approval.

Columbia Mills Hydroelectric, LLC is located at 841 Shelley Road, Raleigh, NC 27609.

(Authority: 18 CFR 2.1)

Dated: December 2, 2025.
Carlos D. Clay,
Deputy Secretary.

[FR Doc. 2025-22120 Filed 12-4-25; 8:45 am]

BILLING CODE 6717-01-P